DEPARTMENT OF HEALTH AND HUMAN SERVICES

Centers for Disease Control and Prevention

[Request for Application (RFA) AA212]

Building and Strengthening the Development of the Republic of Haiti's Central HIV/AIDS Quality-Assurance/Quality-Control (QA/QC) Laboratory and the Associated National Network of QA/QC Laboratories in Haiti, as Part of the President's Emergency Plan for AIDS Relief; Notice of Intent To Fund Single Eligibility Award

A. Purpose

The Centers for Disease Control and Prevention (CDC) announces the intent to fund fiscal year (FY) 2005 funds for a cooperative agreement program to fund the President's Emergency Plan for AIDS Relief (The Emergency Plan). The plan has called for immediate action to turn the tide of HIV/AIDS in Africa and the Caribbean. The initiative hopes to prevent at least seven million new HIV infections, place two million people on treatment, and provide care for ten million people, including orphans and vulnerable children. An essential element of preventing new cases of HIV infection is to ensure that high-risk groups have adequate access to screening, treatment, and care facilities.

Haiti's HIV prevalence rate in adults is estimated to be between 3.1 and 5.6 percent according to the Haitian Ministry of Health-Ministère de la Santé Publique et de la Population (MSPP) and the 2004 Annual Report from the Joint United Nations Programme on HIV and AIDS (UNAIDS), respectively. Access to prevention and treatment is limited to the Haitian population due to the underdeveloped public health infrastructure and lack of clinical capacity. In order to improve this capacity, this Cooperative Agreement has been developed to provide much needed funding and resources.

The Catalog of Federal Domestic Assistance number for this program is 93.067.

B. Eligible Applicant

This is a single eligibility request for application (RFA) from MSPP. No other applicants are solicited.

The MSPP is the government. They have the authority and responsibility for both regulation and QA/QC of all Laboratories within the country. They are responsible for establishing norms and standards for laboratories.

The MSPP, as the government, is the only entity that has the authority to establish and operate the entire public health system which includes departmental hospitals and clinics where ARV services are being provided. The Ministry has developed public/private partnerships to help manage some of these sites but even at those sites that are managed by the private sector they are ultimately accountable to the MSPP for services provided and quality care. The MSPP still maintains a supervisor role for these sites.

The role of regulation and standard setting at a national level is inherently governmental. In order to fulfill its role in this area the Haitian Ministry of Health needs to have the capacity to independently verify compliance through a central HIV/AIDS quality assurance/quality control laboratory. If a private or non-governmental laboratory were allowed to take on this role it would call into question the independence of the results in order to favor laboratories associated with that organization.

C. Funding

Approximately $2,765,000 is available over a five year project period. $553,000 is available for a 12-month budget period in FY 2005, to be awarded September 15, 2005. Funding estimates may change.

D. Where To Obtain Additional Information

For general comments or questions about this announcement, contact: Technical Information Management, CDC Procurement and Grants Office, 2920 Brandywine Road, Atlanta, GA 30341-4146. Telephone: 770-488-2700.

For program technical assistance, contact: Kathy Grooms, CDC Global AIDS Program, 1600 Clifton Road, NE, Mailstop E-04, Atlanta, GA 30333. Telephone: 404-639-8394. E-mail: Kgrooms@cdc.gov.

For financial, grants management, or budget assistance, contact: Vivian Walker, Grants Management Specialist, CDC Procurement and Grants Office, 2920 Brandywine Road, Atlanta, GA 30341. Telephone: 770-488-2724. E-mail: VEW4@CDC.GOV.

Dated: August 12, 2005.
William P. Nichols,
Director, Procurement and Grants Office, Centers for Disease Control and Prevention.

[FR Doc. 05-16450 Filed 8-18-05; 8:45 am]

BILLING CODE 4163-18-P